DEPARTMENT OF AGRICULTURE

Forest Service

Highlands Regional Study: Connecticut and Pennsylvania 2010 Update

AGENCY: Forest Service, USDA.

ACTION: Notice of public meetings; request for comment.

SUMMARY: As required by the Highlands Conservation Act, Public Law 108-421, the Forest Service has drafted the Highlands Regional Study: Connecticut and Pennsylvania 2010 Update. The study is now available (see link below) and identifies high conservation value areas, the impacts of land use change on the natural resources, and conservation strategies in the Connecticut and Pennsylvania portions of the Connecticut, New York, New Jersey, and Pennsylvania Highlands Region. Public comment is being sought on the results of the update to better inform potential consumers of the study results.

DATES: Comments must be received in writing on or before June 17, 2010 to be assured of consideration. Comments received after that date will be considered to the extent practicable.

ADDRESSES: Comments concerning this notice should be addressed to Martina Barnes, Regional Planner, U.S. Forest Service, c/o U.S. EPA, Region 2, 290 Broadway, 24th floor, New York, NY 10007. Comments also may be submitted via facsimile to 212-637-3887 or via Internet to: http://www.na.fs.fed.us/highlands/regional/index.shtm.

All comments, including names and addresses when provided, are placed in the record and are available for public inspection and copying. The public may inspect comments received by contacting martinabarnes@fs.fed.us.

FOR FURTHER INFORMATION CONTACT: Martina Barnes, Regional Planner, at 212-637-3863. Individuals who use telecommunication devices for the deaf (TDD) may call the Federal Information Relay Service (FIRS) at 1-800-877-8339 between 8 a.m. and 8 p.m., Eastern Standard Time, Monday through Friday.

SUPPLEMENTARY INFORMATION: In addition to seeking public comment on the 2010 Update, two public meetings are scheduled to discuss the study.

A public meeting to discuss the Pennsylvania portion of the study will be held on May 24, 2010 at 4 p.m. at the Nolde Forest Environmental Education Center in Reading, Pennsylvania.

A public meeting to discuss the Connecticut portion of the study will be held on May 26, 2010 at 6 p.m. at the University of Connecticut Cooperative Extension office in Torrington, Connecticut.

The study is available at http://www.na.fs.fed.us/highlands/regional/index.shtm. Comments received in response to this notice, including names and addresses when provided, will be a matter of public record. Comments will be summarized.

Dated: April 26, 2010.
Kathryn Maloney,
Director, U.S. Forest Service, Northeastern Area.

[FR Doc. 2010-10093 Filed 4-30-10; 8:45 am]

BILLING CODE 3410-11-P